FEDERAL COMMUNICATIONS COMMISSION

Notice of Public Information Collection(s) Being Submitted for Review to the Office of Management and Budget

December 18, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 5, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@.omb.eop.gov and to Judith-B.Herman@fcc.gov, Federal Communications Commission, Room 1-B441, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0853.

Title: Compliance with Children's Internet Protection Act; Receipt of Service Confirmation; and Funding Commitment (FRN) Change Request.

Form Nos.: FCC Forms 479, 486 and 500.

Type of Review: Revision of a currently approved collection.

Respondents: Business or other for-profit, not-for-profit institutions and state, local or tribal government.

Number of Respondents: 45,000 respondents; 45,000 responses.

Estimated Time Per Response: 1-1.5 hours.

Frequency of Response: On occasion and annual reporting requirements and third party disclosure requirement.

Obligation to Respond: Required to obtain or retain benefits.

Total Annual Burden: 62,500 hours.

Total Annual Cost: N/A.

Privacy Act Impact Assessment: N/A.

Nature and Extent of Confidentiality: The Commission is not requesting that respondents submit confidential information to the Commission. If the Commission requests applicants to submit information that the respondents believe is confidential, respondents may request confidential treatment of such information under section 47 CFR 0.459 of the Commission's rules.

Needs and Uses: The Commission will submit this information collection to OMB as a revision during this comment period to obtain the full three-year clearance from them. The Commission has revised this collection since it was last submitted to OMB. The Commission has eliminated the FCC Form 486-T which was a temporary form to be used in Funding Year 2003. That date has sunset and the form has been eliminated. The Commission has also updated the Privacy Act and PRA burden statement notices contained on each form. Finally, the FCC Form 486 has been modified to include a new certification that certain steps have been taken prior to the commencement of service (see the Fifth Report and Order, CC Docket No. 02-6, FCC 04-190). The FCC Forms 479 and 500 remain unchanged since the last submission to the OMB.

The purpose of this information collection is to ensure that schools and libraries that are eligible to receive discounted Internet access and internal connections have in place certain Internet safety policies. Libraries receiving Internet access and internal connection services supported by the schools and libraries support mechanism must certify, by completing the FCC Form 486 (Receipt of Service Confirmation Form), the respondents are indicating they are enforcing a policy of Internet safety and enforcing the operation of a technology prevention measure. Respondents who received a Funding Commitment Decision Letter indicating services eligible for universal service discounts must file FCC Form 486 in order to start the payment process. In addition, all members of a consortium must submit signed certifications to the Billed Entity (using a FCC Form 479, Certification by Administrative Authority to Billed Entity of Compliance with Children's Internet Protection Act (CIPA)) of each consortium, in language consistent with that adopted on the FCC Form 486. FCC Form 500 is used in conjunction with the FCC Form 486 to adjust funding commitments and/or modify the dates for receipt of service.

OMB Control Number: 3060-0856.

Title: Universal Service—Schools and Libraries Universal Service Program Reimbursement Forms.

Form Nos.: FCC Forms 472, 473 and 474.

Type of Review: Revision of a currently approved collection.

Respondents: Business or other for-profit, not-for-profit institutions and state, local or tribal government.

Number of Respondents: 21,200 respondents; 91,100 responses.

Estimated Time Per Response: 1-1.5 hours.

Frequency of Response: On occasion and annual reporting requirements and third party disclosure requirement.

Obligation to Respond: Required to obtain or retain benefits.

Total Annual Burden: 133,650 hours.

Total Annual Cost: N/A.

Privacy Act Impact Assessment: N/A.

Nature and Extent of Confidentiality: The Commission does not request that respondents submit confidential information to the Commission. If the Commission requests applicants to submit information that the respondents believe is confidential, respondents may request confidential treatment of such information under section 47 CFR 0.459 of the Commission's rules.

Needs and Uses: The Commission will submit this information collection to OMB as a revision during this comment period to obtain the full three-year clearance from them. The Commission has revised this collection since it was last submitted to OMB. The forms have been revised to include new certifications that the service provider has complied with the competitive bidding requirements of the program, pursuant to the Fifth Report and Order, (CC Docket No. 02-6, FCC 04-190). In addition, to reduce confusion, the FCC Form 473 will contain information about one SPIN (rather than multiple SPINs). Note: A SPIN is a Service Provider Identification Number. The burden hours on all three forms and their instructions have been updated. All three forms also contain updated notices for individuals as required by the Privacy Act and the Paperwork Reduction Act.

The purpose of the FCC Form 472 is to establish the process and procedure for an eligible entity to seek reimbursement from the service provider for the discounts on services paid in full. After receiving an invoice from the service provider, together with an FCC Form 472, the fund administrator is able to verify the eligible service and approved amounts that should be reimbursed and can make the appropriate payment. The FCC Form 472 is used to ensure that each service provider has provided discounted services within the current funding year for which it submits an invoice to the Administrator and that invoices submitted from service providers for the costs of discounted eligible services do not exceed the amount that has been approved.

The purpose of the FCC Form 473 is to establish that the participating service provider is eligible to participate in the program under the FCC's rules governing the schools and libraries universal service support mechanism pursuant to the Act. The FCC 473 is used by the Administrator to assure that the dollars paid out by the fund to service providers go to eligible providers.

The purpose of the FCC Form 474 is to establish the process and procedure for a service provider to seek payment for the discounted costs of services it provided to Billed Entities for eligible services. After receiving an invoice from the service provider, together with an FCC Form 474, the fund administrator is able to verify that the eligible and approved amounts can be paid. The FCC Form 474 is used to ensure that each service provider has provided discounted services within the current funding year for which it submits an invoice to the Administrator and that invoices submitted from service providers for the costs of discounted eligible services do not exceed the amount that has been approved.

All of the requirements contained in this information collection are necessary to implement the congressional mandate for universal service.

Federal Communications Commission.
William F. Caton,
Deputy Secretary.

[FR Doc. E6-22324 Filed 1-3-07; 8:45 am]

BILLING CODE 6712-01-P